NATIONAL ARCHIVES AND RECORDS ADMINISTRATION

Agency Information Collection Activities: Submission for OMB Review; Comment Request

AGENCY: National Archives and Records Administration (NARA).

ACTION: Notice.

SUMMARY: NARA is giving public notice that the agency has submitted to OMB for approval the information collection described in this notice. The public is invited to comment on the proposed information collection pursuant to the Paperwork Reduction Act of 1995.

DATES: Written comments must be submitted to OMB at the address below on or before May 5, 2003, to be assured of consideration.

ADDRESSES: Comments should be sent to: Office of Information and Regulatory Affairs, Office of Management and Budget, Attn: Ms. Brooke Dickson, Desk Officer for NARA, Washington, DC 20503.

FOR FURTHER INFORMATION CONTACT: Requests for additional information or copies of the proposed information collection and supporting statement should be directed to Tamee Fechhelm at telephone number 301-837-1694 or fax number 301-837-3213.

SUPPLEMENTARY INFORMATION: Pursuant to the Paperwork Reduction Act of 1995 (Public Law 104-13), NARA invites the general public and other Federal agencies to comment on proposed information collections. NARA published a notice of proposed collection for this information collection on January 16, 2003 (68 FR 2368). No comments were received. NARA has submitted the described information collection to OMB for approval.

In response to this notice, comments and suggestions should address one or more of the following points: (a) Whether the proposed information collection is necessary for the proper performance of the functions of NARA; (b) the accuracy of NARA's estimate of the burden of the proposed information collection; (c) ways to enhance the quality, utility, and clarity of the information to be collected; and (d) ways to minimize the burden of the collection of information on respondents, including the use of information technology. In this notice, NARA is soliciting comments concerning the following information collection:

Title: Records Management Conference Electronic Registration Form and Records Management Training Class Registration Form.

OMB number: 3095-NEW.

Agency form number: NA Forms 14123 and 14124.

Type of review: Regular.

Affected public: Business or for-profit, nonprofit organizations and institutions, and Federal, State and local government agencies.

Estimated number of respondents: 400.

Estimated time per response: 5 minutes.

Frequency of response: On occasion.

Estimated total annual burden hours: 33 hours.

Abstract: Each year NARA conducts a records management conference and a variety of records management training classes. Federal government employees and interested state and local government and private sector individuals such as contractors and vendors also attend the records management conference and training classes. Attendees are required to pre-register for both the records management conference and for the records management training classes and these forms provide for standardized collection of necessary registration and payment information.

Dated: March 28, 2003.
L. Reynolds Cahoon,
Assistant Archivist for Human Resources and Information Services.

[FR Doc. 03-8164 Filed 4-3-03; 8:45 am]

BILLING CODE 7515-01-P